ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 29-31, 2010, at the times and location noted below.

DATES: The schedule of events is as follows:

Monday, March 29, 2010

10:30-11 a.m. Budget Committee.

11-Noon Planning and Evaluation Committee.

1:30-3:30 p.m. Ad Hoc Committee Meetings (Closed to the Public).

3:30-4:30 p.m. Technical Programs Committee.

Tuesday, March 30, 2010

9:30-2:30 p.m. Ad Hoc Committee Meetings, Continued (Closed to the Public).

2:30-3:30 p.m. Frontier Issues Ad Hoc Committee.

3:30-4:30 p.m. Accessible Design in Education Ad Hoc Committee.

Wednesday, March 31, 2010

9:30-11 a.m. Briefing on Health Information Technology.

1:30-3 p.m. Board Meeting.

ADDRESSES: All meetings will be held at the Westin Arlington Gateway, 801 North Glebe Road, Arlington, VA 22203.

FOR FURTHER INFORMATION CONTACT: For further information regarding the meetings, please contact David Capozzi, Executive Director, (202) 272-0010 (voice) and (202) 272-0082 (TTY).

SUPPLEMENTARY INFORMATION: At the Board meeting scheduled on Wednesday, March 31, the Access Board will consider the following agenda items:

• Approval of the draft January 13, 2010 meeting minutes.

• Budget Committee Report.

• Planning and Evaluation Committee Report.

• Technical Programs Committee Report.

• Ad Hoc Committee Reports.

• Election of Officers.

• Executive Director's Report.

• ADA and ABA Guidelines; Federal Agency Updates.

All meetings are accessible to persons with disabilities. An assistive listening system, computer assisted real-time transcription (CART), and sign language interpreters will be available at the Board meeting. Persons attending Board meetings are requested to refrain from using perfume, cologne, and other fragrances for the comfort of other participants (see http://www.access-board.gov/about/policies/fragrance.htm for more information).

David M. Capozzi,
Executive Director.

[FR Doc. 2010-5891 Filed 3-17-10; 8:45 am]

BILLING CODE 8150-01-P